DEPARTMENT OF HEALTH AND HUMAN SERVICES

[Document Identifier: OS-0990-new]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 18, 2022.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Title X Implementation Study.

Type of Collection: New.

OMB No. 0990-NEW-Office of Population Affairs—OASH.

Abstract: The Office of Population Affairs (OPA), U.S. Department of Health and Human Services (HHS), is requesting 3 years of approval by OMB on a new collection. The Title X Implementation Study will document how organizations funded by the Title X Service Grants program design and implement their program services. The study will document (1) how grantees ensure access to equitable, affordable, client-centered quality family planning services; (2) the steps that Title X grantees take to provide clients from diverse communities with equitable access to affordable, high-quality, client-centered health services; (3) any pivots and/or accommodations to providing care they made in recent years, including during the COVID-19 pandemic; and (4) how they assess their impact. To carry out these objectives, the study team will rely on the following five proposed data sources: (1) A web-based survey of the 2022 cohort of Title X grantees; (2) grantee telephone interviews; (3) in-person or virtual listening visits with clinic administrators, service providers, and community outreach or partner staff at a subset of Title X sub-recipients and service delivery sites; (4) a web-based survey of clients at up to 10 of the sites selected for listening visits; and (5) telephone interviews with subject matter experts. Data collection will begin in fall 2022, pending OMB approval, with the grantee survey and interviews, which will inform selection of sites for the listening visits.

Annualized Burden Hour Table
Forms (if necessary) | Respondents (if necessary) | Number of respondents | Number of responses per respondents | Average burden per response | Total burden hours
Grantee web survey | Grantee project director | 26 | 1 | 1 | 26
Grantee interview topic guide | Grantee staff | 52 | 1 | 90/60 | 78
Listening visit topic guide for clinic administrators | Clinic administrators | 27 | 1 | 45/60 | 20
Listening visit topic guide for clinical service providers | Clinicians, RN, LPN, MA, health educator, public health nurses, health educators | 53 | 1 | 1 | 53
Listening visit topic guide for community outreach and partner staff | Clinic community outreach and partner staff | 27 | 1 | 45/60 | 20
Client survey | Title X clients | 100 | 1 | 10/60 | 17
Subject Matter Expert Topic Guide | Title X subject matter experts | 8 | 1 | 1 | 8
Total |  |  | 7 |  | 222

Sherrette A. Funn,
Paperwork Reduction Act Reports Clearance Officer, Office of the Secretary.

[FR Doc. 2022-10747 Filed 5-18-22; 8:45 am]

BILLING CODE 4150-34-P